DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NMFS Alaska Region Observer Providers.

Form Number(s): None.

OMB Approval Number: 0648-0318.

Type of Request: Regular submission.

Burden Hours: 1,959.

Number of Respondents: 205.

Average Hours Per Response: 30 minutes for industry request for assistance in improving observer data quality issues; 60 hr for new permit application for observer provider; 15 minutes for update to provider information; 15 minutes for observer candidates college transcripts and disclosure statements, observer candidate; 15 minutes for observer candidates college transcripts and disclosure statements, observer provider; 5 minutes for notification of observer physical examination, observer provider; 2 hours for observer physical examination; 7 minutes for projected observer assignment; 7 minutes for briefing registration; 12 minutes for certificate of insurance; 15 minutes for copies of contracts; 7 minutes for weekly deployment/logistics reports; 7 minutes for debriefing registration; 2 hours for reports of problems; 40 hours for observer provider permit expiration or denial of permit appeals; and 20 hours for appeals for denial of observer certification, certification suspension, or decertification.

Needs and Uses: NMFS North Pacific Groundfish Observer Program was implemented in early 1990. Observers in this Program collect and disseminate catch, bycatch, and biological data necessary to support in-season monitoring and stock assessment. Alaska Fisheries Science Center in Seattle, Washington, provides the operational oversight of the program, certification training, definition of observer sampling duties and methods, debriefing of observers, and management of the data. Owners of vessels, shoreside processors, or stationary floating processors required to carry observers must arrange for observer services from an observer provider. A list of observer providers is available at http://www.afsc.noaa.gov/refm/observers/observer_providers.htm.

The name of this collection is changed from “Observer Providers of the North Pacific” to read “NMFS Alaska Region Observer Providers.”

Affected Public: Business or other for-profit organizations; individuals or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 17, 2005.
Gwellnar Banks,
Management Analyst, Office of the Chief Information Officer.

[FR Doc. 05-21085 Filed 10-20-05; 8:45 am]

BILLING CODE 3510-22-P